DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with July anniversary dates. In accordance with Commerce's regulations, we are initiating those administrative reviews.

DATES: Applicable August 14, 2024.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with July anniversary dates.

All deadlines for the submission of various types of information, certifications, or comments or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our decision regarding respondent selection within 35 days of publication of the initiation Federal Register notice. Comments regarding the CBP data (and/or Q&V data (where applicable)) and respondent selection should be submitted within seven days after the placement of the CBP data/submission of the Q&V data on the record of this review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V Questionnaire is issued must complete, as appropriate, either a Separate Rate Application or Certification, and respond to the Q&V Questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

⁴ In the initiation notice that published on July 29, 2024 (89 FR 60871), Commerce inadvertently listed Salem Steel N.A., LLC., a U.S. importer of subject merchandise, as a company under administrative review. Commerce hereby clarifies that Salem Steel N.A., LLC. is not subject to the review.

⁵ The company listed below was inadvertently omitted from the initiation notice that published on July 29, 2024 (89 FR 60871).

⁶ See Polyethylene Terephthalate Film, Sheet, and Strip from India: Final Results of Antidumping Duty Changed Circumstances Review, 89 FR 44638 (May 21, 2024).

Initiation of Reviews

In accordance with 19 CFR 351.221(c)(1)(i), we are initiating administrative reviews of the following AD and CVD orders and findings. We intend to issue the final results of these reviews not later than July 31, 2025.

| Period to be reviewed
AD Proceedings
BELGIUM: Citric Acid and Certain Citrate Salts, A-423-813 | 7/1/23-6/30/24
Citribel N.V.
COLOMBIA: Citric Acid and Certain Citrate Salts, A-301-803 | 7/1/23-6/30/24
Sucroal S.A.
INDIA: Certain Cold-Drawn Mechanical Tubing of Carbon and Alloy Steel,⁴ A-533-873 | 6/1/23-5/31/24
INDIA: Quartz Surface Products,⁵ A-533-889 | 6/1/23-5/31/24
Jyothi Quartz Surfaces
INDIA: Polyethylene Terephthalate (Pet) Film, A-533-824 | 7/1/23-6/30/24
Chiripal Poly Films Limited
Cosmo First Ltd., India
Ester Industries Limited
Garware Hi-Tech Films Limited (formerly Garware Polyester Limited) ⁶
Jindal Poly Films Ltd.; Jindal Poly Films Ltd. (India)
JPFL Films Private Limited
Polyplex Corporation Limited
SRF Limited; SFR Limited of India
Vacmet India Limited
ITALY: Certain Pasta, A-475-818 | 7/1/23-6/30/24
Agritalia S.r.L
Aldino S.r.l
Andriani S.p.A
Antiche Tradizioni Di Gragnano S.R.L.
Barilla G. e R. Fratelli Società per Azioni Socio Unico
George DeLallo Company, Inc.
Gruppo Milo SpA
La Molisana, S.p.A.
Pastificio Artigiano Cav. Giuseppe Cocco S.R.L.
Pastificio Chiavenna S.r.l
Pastificio Di Martino Gaetano e Flli S.p.A.; Pastificio Dei Campi S.p.A.
Pastificio Liguori S.p.A.; PAM S.P.A.; PAM S.R.L.; Liquori Pastificio Dal 1820 S.P.A.; Pastificio Della Forma S.r.L.
Pastificio Lucio Garofalo S.p.A
Pastificio Mediterranea S.R.L.
Pastificio Rigo S.P.A
Pastificio Sgambaro
Pastificio Tamma S.r.l.
Rummo S.p.A.; Pasta Castiglioni S.r.l.; Molino e Pastificio (Rummo); Rummo Lenta Lavorazione S.p.A.
JAPAN: Stainless Steel Sheet and Strip in Coils, A-588-845 | 7/1/23-6/30/24
Daido Kogyo Co., Ltd
Fujiden International Corp.
Haneda Kosa Co.
Hanwa Co., Ltd.
Honda Trading Corporation
JFE Shoji Trading Corp.
Kaga Industries Co., Ltd.
Kamigumi Co., Ltd.
Kawasaki Steel Corporation
Marubeni Corporation
Marubeni Itochu Steel Inc.
Matsuo Industries Inc.
Metal One Corp.
Mitsubishi Chemical Infratec Co., Ltd.
Mitsuboshi Cutlery Co., Ltd.
Mitsui & Co., Ltd.
Nichia Corporation
Nippon Gasket Co., Ltd.
Nippon Kinzoku Co., Ltd.
Nippon Metal Industries
Nippon Steel Corporation
Nippon Steel Trading Co., Ltd.
Nippon Yakin Kogyo
Nishinihon Shoko Co., Ltd.
Nisshin Steel Co., Ltd.
NOF Corporation
Okaya & Co., Ltd.
Proterial Ltd.
Sakamoto Industries Co., Ltd.
Sasano Max Co., Ltd.
Shinsho Corporation
Sumisho Metalex Corp.
Sumitomo Corporation
Tetsusho Kayaba Corp.
Tomiyasu & Co., Ltd.
Toyo Kihan Co., Ltd.
Valutec International Inc.
Wolverine Japan Inc.
Young Steel Co., Ltd.
MALAYSIA: Certain Steel Nails, A-557-816 | 7/1/23-6/30/24
Alsons Manufacturing India, LLP
Asia Bolts & Nuts Sdn. Bhd.
Astrotech Steels Pvt. Ltd.
Atlantic Marine Group Ltd.
AV Fastener (M) Sdn. Bhd.
Best Staples Sdn. Bhd.
Chia Pao Metal Co., Ltd.
Chin Lai Hardware Sdn. Bhd.
Chin Well Fasteners Co.
Chuan Heng Hardware Paints and Building Materials Sdn. Bhd.
Come Best (Thailand) Co., Ltd.
Fastenal Malaysia Sdn. Bhd.
Fuji Fastener Manufacturing Sdn. Bhd.
Gbo Fastening Systems AB
Geekay Wires Limited
Gripwell Fastening (M) Sdn. Bhd.
Impress Steel Wire Industries Sdn. Bhd.
Inmax Industries Sdn. Bhd.
Inmax Sdn. Bhd.
Kerry-Apex (Thailand) Co., Ltd.
Kimmu Industries Sdn. Bhd.
Kimmu Trading Sdn., Bhd.
Madura Fasteners Sdn. Bhd.
Modern Factory for Steel Industries Co., Ltd.
Multi Venture Resources Sdn. Bhd.
Oman Fasteners LLC
PrimeSource Building Products Inc.
Region International Co., Ltd.
Region System Sdn. Bhd.
RM Wire Industries Sdn. Bhd.
S.H. Chooi Fasteners
SK Bolts & Fasteners Sdn. Bhd.
Soon Shing Building Materials Sdn. Bhd.
Storeit Services LLP
Sunmat Industries Sdn., Bhd.
Tag Fasteners Sdn. Bhd.
Tag Staples Sdn., Bhd.
Tampin Sin Yong Wai Industry Sdn. Bhd.
Top Remac Industries
Trinity Steel Private Limited
UD Industries Sdn., Bhd.
Vien Group Sdn., Bhd.
Watasan Industries Sdn., Bhd.
Wing Tai Fastener Manufacturer
Winston Mayer Sdn. Bhd.
WWL India Private Ltd.
Yew Siong Industrial Supplies Sdn. Bhd.
OMAN: Certain Steel Nails, A-523-808 | 7/1/23-6/30/24
Al Ansari Teqmark LLC
Al Kiyumi Global LLC
Al Sarah Building Materials LLC
Buraimi Iron & Steel, LLC
CL Synergy (Pvt) Ltd.
Diamond Foil Trading LLC
Gulf Nails LLC
Gulf Nails Manufacturing, LLC
Gulf Steel Manufacturers, LLC
Muscat Industrial Company, LLC
Muscat Nails Factory Golden Asset Trade, LLC
Oman Fasteners, LLC
Oman Ocean Trading LLC
Omega Global Uluslararasi Tasimacilik Ticaret Ltd. Sti
WWL Indian Private Ltd.
REPUBLIC OF KOREA: Certain Corrosion-Resistant Steel Products, A-580-878 | 7/1/23-6/30/24
Dongbu Incheon Steel Co., Ltd.
Dongkuk Coated Metal Co., Ltd.
Dongkuk Steel Mill Co., Ltd.
Hyundai Steel Company
KG Dongbu Steel Co., Ltd.
NS BlueScope Steel Vietnam Ltd.
POSCO
POSCO STEELEON Co., Ltd.
POSCO International Corporation
SeAH Coated Metal
SeAH Steel Corporation
REPUBLIC OF KOREA: Certain Passenger Vehicle and Light Truck Tires, A-580-908 | 7/1/23-6/30/24
Hankook Tire & Technology Co., Ltd. (Hankook)
Kumho Tire Co., Inc.
Nexen Tire Corporation (Nexen)
REPUBLIC OF KOREA: Certain Steel Nails, A-580-874 | 7/1/23-6/30/24
Ansing Fasteners Co. Ltd.
Beijing Catic Industry Limited
Beijing Jinheung Co., Ltd.
Big Mind Group Co., Ltd.
Changzhou Kya Trading Co., Ltd.
China Staple Enterprise Tianjin Co. Ltd.
CMT Co., Ltd.
D&F Material Products Ltd.
Daejin Steel Company
De Well Group Korea Co., Ltd.
Dezhou Hualude Hardware Products Co. Ltd.
DLF Industry Co., Limited
Dong Yang Chemical Co., Ltd.
Doublemoon Hardware Company Ltd.
DT China (Shanghai) Ltd.
Duo-Fast Korea Company Limited
Dugwoo Co., Ltd.
Ejen Brothers Limited
England Rich Group (China) Ltd.
Ever Leading International Inc.
Fastgrow International Co., Inc.
Glovis America, Inc.
GWP Industries (Tianjin) Co., Ltd.
Haas Automation Inc. Han Express Co., Ltd.
Handuk Industrial Co., Ltd.
Hanmi Staple Co., Ltd.
Hanwoo Industrial Co., Ltd.
Hebei Cangzhou New Century Foreign Trade Co., Ltd.
Hebei Longshengyuan Trade Co Ltd.
Hebei Minmetals Co., Ltd.
Hebei Shinyee Trade Co. Ltd.
Hengtuo Metal Products Company Limited
Home Value Co., Ltd.
Hongyi (Hk) Hardware Products Co., Limited
Hongyi (Hk) Industrial Co., Limited
Huanghua RC Business Co., Ltd.
Huanghua Yingjin
Hardware Products Co., Ltd.
HWA Shin Bolt Ind. Co. Ltd.
Inmax Industries Sdn. Bhd.
JCD Group Co., Limited
Je-il Wire Production Co., Ltd.
Jinheung Steel Corporation
Jining Jufu International Trade Co.
Jinsco International Corp.
Joo Sung Sea & Air Co., Ltd.
Jushiqiangsen (Tianjin) International Trade Co., Ltd.
Kabool Fasteners Co. Ltd.
KB Steel Kerry-Apex (Thailand) Co., Ltd.
Koram Inc. Korea Wire Co., Ltd.
Korea Wire Co., Ltd.
KPF Co., Ltd.
Kuehne & Nagel Ltd.
Linyi Double-Moon Hardware Products Co., Ltd.
Linyi Flyingarrow Imp. & Exp. Co., Ltd.
Linyi Jianchengde Metal Hardware Co.
Linyi Yitong Chain Co., Ltd.
Manho Rope and Wire Ltd.
Max Co., Ltd.
Mingguang Ruifeng Hardware Products Co., Ltd.
Nailtech Co., Ltd.
Nanjing Senqiao Trading Co., Ltd.
Needslink, Inc.
Ocean King International Industries Limited
Paslode Fasteners (Shanghai) Co., Ltd.
Peace Industries Ltd. Korea
Peace Korea Co., Ltd.
Qingdao Ant Hardware Manufacturing Co., Ltd.
Qingdao Best World Industry-Trading Co., Ltd.
Qingdao Cheshire Trading Co., Ltd.
Qingdao Hongyuan Nail Industry Co., Ltd.
Qingdao JCD Machinery Co., Ltd.
Qingdao Jiawei Industry Co., Limited
Qingdao Jisco Co., Ltd
Qingdao Master Metal Products Co., Ltd.
Qingdao Meijialucky Industry and Co.
Qingdao Mst Industry and Commerce Co., Ltd.
Qingdao Ruitai Trade Co., Ltd.
Qingdao Shantron Int'l Trade Co., Ltd.
Qingdao Shenghengtong Metal Products Co., Ltd.
Qingdao Sunrise Metal Products Co., Ltd.
Qingdao Tian Heng Xiang Metal Products Co., Ltd.
Qingdao Top Metal Industrial Co., Ltd.
Rewon Systems, Inc.
Rise Time Industrial Ltd.
Salt International Co., Ltd.
Shandong Dominant Source Group Co., Ltd.
Shandong Guomei Industry Co., Ltd.
Shanghai Curvet Hardware Products Co., Ltd.
Shanghai Goldenbridge International Co., Ltd.
Shanghai Pinnacle International Trading Co., Ltd.
Shanghai Zoonlion Industrial Co., Ltd.
Shanxi Pioneer Hardware Industrial Co., Ltd
Shanxi Sanhesheng Trade Co., Ltd.
Shaoxing Bohui Import & Export Co., Ltd.
Shijiazhuang Tops Hardware Manufacturing Co., Ltd.
Shijiazhuang Yajiada Metal Products Co., Ltd.
Shin Jung TMS Corporation Ltd.
Shinheung Industry Co
SSS Hardware International Trading Co., Ltd.
Storeit Services LLP
Tangshan Jason Metal Materials Co., Ltd.
Test Rite International Co., Ltd.
The Inno Steel Industry Company
Tianjin Bluekin Industries Limited
Tianjin Coways Metal Products Co., Ltd.
Tianjin Hweschun Fasteners Manufacturing Co. Ltd.
Tianjin Jinchi Metal Products Co., Ltd.
Tianjin Jinghai County Hongli Industry and Business Co., Ltd.
Tianjin Jinzhuang New Material Sci Co., Ltd.
Tianjin Lianda Group Co., Ltd.
Tianjin Zhonglian Metals Ware Co., Ltd.
Tianjin Zhonglian Times Technology Co., Ltd.
Un Global Company Limited Unicorn (Tianjin) Fasteners Co., Ltd.
United Company for Metal Products
W&K Corporation Limited
Weifang Wenhe Pneumatic Tools Co., Ltd.
Wulian Zhanpengmetals Co., Ltd.
WWL India Private Ltd.
Xian Metals And Minerals Import And Export Co., Ltd.
Youngwoo Fasteners Co., Ltd.
Youone Fastening Systems
Zhangjiagang Lianfeng Metals Products Co., Ltd.
Zhaoqing Harvest Nails Co., Ltd
REPUBLIC OF KOREA: Stainless Steel Sheet and Strip in Coils, A-580-834 | 7/1/23-6/30/24
Ajubesteel Co., Ltd.
Ameri Source Korea
Cd Engineering Co., Ltd.
Cenit Co., Ltd.
Daejin Machinery Co.
DK Corporation
Dk International Co., Ltd.
Dongkuk Steel Mill Co., Ltd.
Edentech Co., Ltd.
Erae Automotive Systems Co., Ltd.
Hyundai BNG Steel Co., Ltd.
Hyundai Steel Company ⁷
KG Steel Co., Ltd.
Kima Steel (Metal) Corp., Ltd.
Kolon Industries Inc.
Korinox Co., Ltd.
Marubeni Itochu Steel Korea Ltd.
Pohang Iron & Steel Co., Ltd. (POSCO) ⁸
POSCO International Corp.
Samjin Metal Co., Ltd.
Samshin Metal Co., Ltd.
Samsung C&T Corp.
Samusung Electronics Co. Ltd.
Samsung SNS Co., Ltd.
Samyoung Corporation
Taihan Electric Wire Co., Ltd.
Topco Global Ltd.
REPUBLIC OF TÜRKIYE: Certain Pasta, A-489-805 | 7/1/23-6/30/24
Beslen Makarna Gida San. ve Tic. A.S.
Besler Pasta
REPUBLIC OF TÜRKIYE: Steel Concrete Reinforcing Bar, A-489-829 | 7/1/23-6/30/24
Colakoglu Metalurji A.S.; Colakoglu Dis Ticaret A.S.
Icdas Celik Enerji Tersane ve Ulasim Sanayi A.S.
Kaptan Demir Celik Endustrisi ve Ticaret A.S.; Kaptan Metal Dis Ticaret Ve Nakliyat A.S.
SOCIALIST REPUBLIC OF VIETNAM: Certain Steel Nails, A-552-818 | 7/1/23-6/30/24
Fastening Care
Region Industries Co., Ltd.
Yes Logistics Corp.
SOCIALIST REPUBLIC OF VIETNAM: Welded Stainless Pressure Pipe, A-552-816 | 7/1/23-6/30/24
Mejonson Industrial Vietnam Co., Ltd.
Sonha International Corporation
Sonha SSP Vietnam Sole Member Co. Limited
The Vietnam-wide Entity
Vinasteel Production Joint Stock Company
Vinlong Stainless Steel (Vietnam) Co., Ltd.
TAIWAN: Certain Passenger Vehicle and Light Truck Tires, A-583-869 | 7/1/23-6/30/24
Cheng Shin Rubber Ind. Co., Ltd.
Nankang Rubber Tire Corp., Ltd.
TAIWAN: Certain Steel Nails, A-583-854 | 7/1/23-6/30/24
Cool Shot Ltd.
Chunyu Factory Co., Ltd
Create Trading Co., Ltd.
Dar Yu Enterprise Co., Ltd.
Fang Sheng Screw Co., Ltd
Fwang Tzay Enterprise Corp
Home Value Co., Ltd.
Hsi Yi Enterprise Co. Ltd.
Hsin Ho Mfg. Co., Ltd.
JCH Hardware Company, Inc.
Joker Industrial Co., Ltd.
Leading Hardware Corporation
Liang Chyuan Industrial Co., Ltd.; Integral Building Products Inc.
Panther T & H Industry Co., Ltd.
Perfect Seller Co., Ltd.
Phoenix Merchandise Inc.
Sanji Co., Ltd.
Sourcing Metrics Ltd.
TG Co., Ltd
Tricera Corp.
Xiamen Huiyu Chemical Trading Co.
Yeun Chang Hardware Tool Company Limited
Your Standing International, Inc.
TAIWAN: Corrosion-Resistant Steel Products, A-583-856 | 7/1/23-6/30/24
China Steel Corporation
Chung Hung Steel Corporation
Great Fortune Steel Co., Ltd.
Great Grandeul Steel Co., Ltd.
Great Grandeul Steel Company Limited (Samoa)
Great Grandeul Steel Corporation
Prosperity Tieh Enterprise Co., Ltd.
Sheng Yu Steel Co., Ltd.
Xxentria Technology Materials Company Ltd
TAIWAN: Polyethylene Terephthalate (Pet) Film, A-583-837 | 7/1/23-6/30/24
Nan Ya Plastics Corporation, Ltd.; Nan Ya Plastics Corporation
Shinkong Materials Technology Co. Ltd; Shinkong Materials Technology Corporation; Shinkong Synthetic Fibers Corporation; Shinkong Synthetic Fibers Corp.
TAIWAN: Stainless Steel Sheet and Strip in Coils, A-583-831 | 7/1/23-6/30/24
Auto Star Ind. Co., Ltd.
Best Win International Co., Ltd.
Broad International Resources Ltd.
Chain Chon Industrial Co., Ltd.
Chang Mien Industries Co., Ltd.⁹
Cheng Feng Plastic Co., Ltd.
Chia Far Industrial Factory Co., Ltd.
Chien Shing Stainless Co.
China Steel Corporation
Ching Hann Ind Co., Ltd.
China Steel Global Trading Corporation
Chung Hung Steel Corp.
Chyang Dah Stainless Co., Ltd.
Da-Tsai Stainless Steel Co., Ltd.
Dah Shi Metal Industrial Co., Ltd.
DB Schenker (HK) Ltd. Taiwan Branch
DHV Technical Information Co., Ltd.
Dinli Metal Industrial Co., Ltd.
Dyaco International Inc.
Froch Enterprises Co., Ltd.
Gang Jou Enterprise Co., Ltd.
General Merchandise Consolidators Inc.
Genn Hann Stainless Steel Enterprise Co., Ltd.
Goang Jau Shing Enterprise Co., Ltd.
Gold Classic Enterprise Ltd.
Goldioceans International Co., Ltd.
Gotosteel Ltd.
Grace Alloy Corp.
Hung Shuh Enterprises Co., Ltd.
Hwa Yang Stainless Steel Ind. Corp.
Hwang Dah Steel Inc.
Intai Technology Corp.
Jie Jin Stainless Steel Industry Co., Ltd.
JJSE Co., Ltd.
Jk Industrial Development Corp.
KNS Enterprise Co., Ltd.
Lancer Ent. Co., Ltd.
Lien Chy Laminated Metal Co., Ltd.
Lien Kuo Metal Industries Co., Ltd.
Lih Chan Steel Co., Ltd.
Lung An Stainless Steel Ind. Co., Ltd.
Master United Corp.
Maytun International Corp.
Meglobe Co., Ltd.
NKS Steel Ind. Ltd.
PFP Taiwan Co., Ltd.
Po Chwen Metal
Prime Rocks Co., Ltd.
Prosperity Tieh Enterprise Co., Ltd.
S More Steel Materials Co., Ltd.
Shih Yuan Stainless Steel Enterprise Co., Ltd.
Shiner Steel International Ltd.
Silineal Enterprises Co., Ltd.
Stanch Stainless Steel Co., Ltd.
Sunmax Industrial Inc.
Ta Chen Stainless Pipe Company Ltd.
Tah Lee Special Steel Co., Ltd.
Taiwan Nippon Steel Stainless
Tang Eng Iron Works Company, Ltd.
Teng Yao Hardware Industrial Co., Ltd.
Tibest International Inc.
Ton Yi Industrial Corp.
Top Sunny Group Corp.
Tsai See Enterprise Co., Ltd.
Tung Mung Development Co., Ltd.¹⁰
Unity Special Steel Co., Ltd.
Vasteel Enterprises Co., Ltd.
Vulcan Industrial Corporation
Wexcel International Co., Ltd.
Wuu Jing Enterprise Co., Ltd.
Yc Inox Co., Ltd.
Yeou Yih Steel Co., Ltd.
Yeou Ting Industries Co., Ltd.
Yes Stainless International Co., Ltd.
Yieh Corp; Yieh Trading Corporation
Yieh Mau Corporation
Yieh Phui Enterprise Co., Ltd.
Yieh United Steel Corporation
Yu Ting Industrial Co., Ltd.
Yuan Long Stainless Steel Corp.
Yue Seng Industrial Co., Ltd.
Yuen Chang Stainless Steel Co., Ltd.
Yung Fa Steel & Iron Industry Co., Ltd.
THAILAND: Certain Passenger Vehicle and Light Truck Tires, A-549-842 | 7/1/23-6/30/24
Bridgestone Company, Ltd. (aka Bridgestone Company and Bridgestone Corporation)
Bridgestone Tire Manufacturing (Thailand) Co., Ltd. (aka Bridgestone Tire Manufacturing and Thai Bridgestone Co.)
Deestone Corporation Public Company Limited; Deestone Corporation Ltd.
General Rubber (Thailand) Co., Ltd.
Huayi Group (Thailand) Company Limited
LLIT Thailand Co., Ltd.
Maxxis International (Thailand) Co. Ltd.
Otani Radial Company Limited
Otani Tire Co., Ltd.
Prinx Chengshan Tire (Thailand) Co., Ltd.
S.R. Tyres Co., Ltd.
Sentury Tire (Thailand) Co., Ltd.
Sumitomo Rubber (Thailand) Co., Ltd.
Thai Bridgestone Co., Ltd.
Vee Tyre & Rubber Co., Ltd.
Yokohama Rubber Co., Ltd.
Yokohama Tire Manufacturing (Thailand) Co., Ltd.
THAILAND: Citric Acid and Certain Citrate Salts, A-549-833 | 7/1/23-6/30/24
COFCO Biochemical (Thailand) Co., Ltd.
Sunshine Biotech International Co., Ltd.
Xitrical Group Co., Ltd.
THE PEOPLE'S REPUBLIC OF CHINA: Certain Chassis and Subassemblies Thereof, A-570-135 | 7/1/23-6/30/24
CIMC Vehicles (Group) Co., Ltd.
Dongguan CIMC Vehicles Co., Ltd.
Qingdao CIMC Special Vehicles Co., Ltd.
SinoTrailers
THE PEOPLE'S REPUBLIC OF CHINA: Certain Collated Steel Staples, A-570-112 | 7/1/23-6/30/24
Adinath Corporation Limited
A-Jax Intl Co., Ltd.
Alfa Marine (Shanghai) Co., Ltd.
An Ji Bei Lun Jia Ju You Xian Gong
Anhui Z&A Import and Export Co., Ltd.
Baoding Baigou New City Yuhuang
Beijing Yazhao Technology Co., Ltd.
Changzhou Kya Fasteners Co., Ltd.
China Staple Enterprise (Tianjin) Co.
China Wind International Ltd.
Cre8 Direct (Ningbo) Co., Ltd.
Eastrong International
E-Teklon Co., Ltd.
Fastnail Products Limited
Five Star International Import and Export
Foshan Hosontool Development Hardware Co., Ltd.
Fourever International Limited
Future Horizon Printing
Global Link (Shanghai) Co., Ltd.
Guangdong Willing Technology Corporation
Guangzhou Liya Leather Co., Ltd.
Guangzhou Nova Co., Ltd.
H&B Promotional Limited
Hainan Golden Shell Co., Ltd.
Hebei Minmetals Co., Ltd.
Hebei Qiqun Import And Export Trade
Hebei Reenly Trade Co., Ltd.
Hk Prosper Industry Limited
Hk Sino-Harvest Packing Co., Ltd.
Hong Kong Beyond Group Company Limited
Hubei Xing Ning Corporation Limited
J. Ennis (Ningbo Free Trade Zone) Co.
Jiaxing Brothers Hardware Co., Ltd.
Ky Pneumatic Nail Co., Limited
Larme Industrial (Shanghai) Company
Mingguang Ruifeng Hardware Products Co., Ltd.
Nanjing Justar Material Co., Ltd.
Ningbo Assisting Trading Co., Ltd.
Ningbo Cando Imp & Exp Co., Ltd.
Ningbo Feihong Stationery Ltd. Corp.
Ningbo G&W Imp & Exp. Co., Ltd.
Ningbo Home-Dollar Imp & Exp Corp.
Ningbo Hoz Fasteners Co., Limited
Ningbo Jieyou Trading Co., Ltd.
Ningbo Joystar International Trade
Ningbo Mas-Houseware Imp. Exp. Co., Ltd.
Ningbo Most-Textile Trading Co., Ltd.
Ningbo Paper Melody Industrial Co., Ltd.
Ningbo Tongya International Co., Ltd.
Ocean King International Industries Limited
Oli-Fast Fasteners (Tianjin)
Prym Consumer Ningbo Trading Limited
Qingdao Forent Industry Co., Ltd.
Rayson Electrical Mfg. Ltd.
Rise Time Industrial Limited
Shanghai Jade Shuttle Hardware Tools Co., Ltd.
Shanghai Yueda Nails Co., Ltd.
Shaoxing Bohui Import & Export Co., Ltd.
Shaoxing Huasheng Stationery Manufacturing Co., Ltd.
Shaoxing Shunxing Metal Producting Co., Ltd.
Suzhou Everich I/E Co., Ltd.
Techtronic Cordless Gp
Tianjin Hengtuo Metal Products Co.
Tianjin Hweschun Fasteners Manufacturing Co., Ltd.
Tianjin Jin Xin Sheng Long Metal Products Co., Ltd.
Tianjin Jinyifeng Hardware Co., Ltd.
Tsi Manufacturing Llc (Hk) Limited
Unicorn (Tianjin) Fasteners Co., Ltd.
Wire Products Manufacturing Co., Ltd.
Xiamen Wanguoxing Trade Co., Ltd.
Xi'An Metals and Minerals Import and Export
YF Technology Corporation
Zhejiang Best Nail Industrial Co., Ltd.
Zhejiang Wangbin Decorative Materi
THE PEOPLE'S REPUBLIC OF CHINA: Certain Freight Rail Couplers and Parts Thereof, A-570-145 | 3/13/23-6/30/24
Alstom Transportation
CH Robinson Worldwide
Chongqing Tongyao Intelligent Equipment Co., Ltd.
Chongqing Tongyao Transportation Equipment Co., Ltd.
Creative Instore Solutions Pty Ltd
CRRC Mudanjiang Jinyuan Casting Co., Ltd.
Dellner Coupler System Technology (Wuhan) Co., Ltd.
National Steel Car
Ningbo Jinhui Precision Casting Co., Ltd.
Ningbo Rete International Co., Ltd.
Qingdao Lianshan Castings Co., Ltd.
Renold China Chain NSC (Renold Hangzhou Co. Ltd)
Rotex Global LLC
RTC Industries Inc.
Strategic Global Sourcing Ltd.
Suzhou Huran Manufacturing Co, Ltd.
Trinity Industries
TXX Company
THE PEOPLE'S REPUBLIC OF CHINA: Corrosion-Resistant Steel Products, A-570-026 | 7/1/23-6/30/24
Angang Cold Rolling Sheet (Putian) Plant
Angang Steel Co. Ltd.—Anshan Plant
ANSC-TKS Galvanizing Co., Ltd.
Anshan Iron & Steel (Group) Corp.
Aoguan Thin Steel Technology (Zhejiang) Co., Ltd.
Asia Minmetals Machinery Co., Ltd.
Baoshan Iron & Steel Co., Ltd.
Baosteel Group Corp.
Baosteel Group Shanghai Meishan Co., Ltd.
Baosteel Group Xinjiang Bayi Iron & Steel Co., Ltd.
Baosteel Huangshi Coated and Galvanized Sheet Co., Ltd.
Baotou Iron and Steel (Group) Co., Ltd.
Bazhou Wanlu Metal Production Co., Ltd.
Beijing Hongyuan Steel Structure Engineering Co., Ltd.
Benlog International Steel Co., Ltd
Benxi Iron & Steel (Group) Special Steel Co., Ltd.
BlueScope (Suzhou) Co., Ltd.
Cangzhou Hengtong Steel Pipe Co., Ltd.
Changshu Everbright Material Technology Co., Ltd.
Changshu Huaye Steel Strip Co., Ltd.
Changshu Jiacheng Coated Steel Co., Ltd
Changzhou Dingang Metal Material Co., Ltd.
Chengde Iron & Steel Group Co., Ltd.
China Lanjiang Steel Group Co., Ltd.
Chongqing Iron & Steel (Group) Co., Ltd.
Cibao New Type Sheet Metal Jiangsu Co., Ltd.
Dalian POSCO Steel Co., Ltd.
Dalian Pujin Steel Plate Co., Ltd
Dongguan Yusheng Steel Co., Ltd.
Fengyuan Steel Structure Co., Ltd.
Foshan Jinxi Jinlan Cold Rolled Sheets Co., Ltd.
Fujian Casey Steel Group Co., Ltd.
Fujian Kaixi Iron & Steel Co., Ltd.
Fujian Longyan Hangxing Steel Co., Ltd.
Fujian Sansteel (Group) Co., Ltd.
Guangdong Hanjiang Steel Plate Co., Ltd.
Guangdong Huaguan Steel Co., Ltd.
Guangdong Huamei Co., Ltd.
Guangdong Huayun Aluminum Industry Co., Ltd.
Guangdong Qingyuan Dongshang Steel Co., Ltd.
Handan Iron & Steel Group Co., Ltd.
Handan Zongheng Iron & Steel Group Co., Ltd.
Handan ZhuoLi Group Co., Ltd.
Hangzhou Yongfeng Steel Construction Co., Ltd.
Hebei Iron & Steel Group Co., Ltd.
Hebei Puyang Iron & Steel Co., Ltd.
Hebei Sunpo Metal Products Co., Ltd.
Hebei Tianjie Pipeline Equipment Co., Ltd.
Hebei Xinda Iron & Steel Co., Ltd
Hebei Yanzhao Lantian Steel Sheet Group Co., Ltd.
Hebei Zhihui Import & Export Co., Ltd.
Hebei Zhonggang Steel & Iron Co., Ltd.
Henan Jianhui Machinery Co., Ltd.
Hengshui Jinghua Steel Pipe Co., Ltd.
Hualu Steel Co., Ltd.
Huangshi Shanli Technology Development Co., Ltd.
Huaye Iron & Steel Group
Hunan Valin Iron and Steel Group Co., Ltd.
Hunan Valin Lianyuan Iron & Steel Co., Ltd.
JFE Steel Corp. (Guangzhou)
Jiangsu Cold Rolled (Sutor Group)
Jiangsu Dajiang Metal Material Co., Ltd.
Jiangsu Gangzheng Steel Sheet Science and Technology Co., Ltd.
Jiangsu Jiangnan Cold-Rolled Co., Ltd.
Jiangsu Jiangnan Industrial Group Co., Ltd.
Jiangsu Jijing Metal Technology Co., Ltd
Jiangsu Shagang Group Co., Ltd.
Jiangyin Huaxi Steel Co., Ltd.
Jiangyin New Taifu Metal Product Co., Ltd
Jiangyin Zongcheng Steel Co., Ltd.
Jieyang Nangang Strip Steel Industrial Co., Ltd.
JinLan Group
Jiuquan Iron & Steel (Group) Co., Ltd.
Kunming Iron & Steel (Group) Co., Ltd.
Langfang Fuxin Steel Plate Co., Ltd.
Liaoning Jiayi Metals & Minerals
Lin Qing Hongji (Group) Co., Ltd.
Longyan Zhuolong Iron & Steel Co., Ltd.
Maanshan Iron & Steel Co., Ltd.
Ningbo Iron & Steel Co., Ltd.
Ningbo Zhongmeng Iron & Steel Co., Ltd.
Pangang Group Chengdu Steel & Vanadium Co., Ltd.
Panhua Group Co., Ltd.
Panzhihua Iron & Steel (Group) Co.
Qingdao Baosen Steel Co.
Qingdao Dtom Metal Products Co., Ltd.
Qingdao Weier Plastic Machinery Co., Ltd.
Sansteel MinGuang Co., Ltd.
Shandong Fada Precision Sheet Co., Ltd.
Shandong Hong Shengda Steel Plate Co., Ltd.
Shandong Iron & Steel Group
Shandong Kerui Steel Plate Co.
Shandong Lu Steel (Group) Co., Ltd.
Shandong Xiangtong Rubber Group Co., Ltd.
Shandong Xinri Coated Steel Sheet Co., Ltd.
Shandong Yuanda Sheet Industry Tech Co., Ltd.
Shandong Zhongguan Steel Plate Co., Ltd.
Shanghai AN LAN Steel Co., Ltd.
Shougang Group
Shougang Jingtang United Iron & Steel Co., Ltd.
Shunde Posco Coated Steel
Sino-Coalition (Ningbo) Steel Production Co., Ltd.
Sinosteel Corporation
South Polar Lights Steel (Shanghai) Co., Ltd.
Tangshan Iron & Steel Group Co., Ltd.
Tianjin Hengxing Steel Industry Co., Ltd
Tianjin Jiecheng Galvanized Rolling Plate Co., Ltd
Tianjin Metallurgical No. 1 Steel Group Co., Ltd
Tianjin Nanchen Steels Co., Ltd.
Tianjin Rolling-one Steel Co., Ltd. (TROSCO)
Tianjin Xinyu Color Plate Co., Ltd.
Tonghua Iron & Steel Co., Ltd
Topsky Steel Industry Co., Ltd
Union Steel (China)
Venus Holdings Shanghai Co., Ltd
Wenzhou Yucang Steel Industry Co., Ltd.
WISCO—Wuhan Iron & Steel (Group) Corp.
Wu'an Wen'an Iron & Steel Co., Ltd.
Wuhan Iron & Steel Group Echeng Iron & Steel Co., Ltd.
Wuxi New Dazhong Steel Co., Ltd.
Wuxi Tongxin Automatic Equipment Co., Ltd
Wuxi Xindazhong Steel Sheet Co., Ltd.
Wuxi Zhongcai New Material Co., Ltd.
Xiehe Group (Zhejiang Concord Group)
Yichang Three Gorges Quantong Coated and Galvanized Plate Co., Ltd.
Yieh Phui (China) Technomaterial Co., Ltd.
Yingkou Panpan Chaoshuo High-Tech Steel Co., Ltd.
Zhangjiagang New Gangxing Technology Co., Ltd.
Zhejiang Hengda Industrial Group Co., Ltd
Zhejiang Huada Steel Industry Co., Ltd.
Zhejiang Shunda Weiye Materials Co., Ltd.
Zhejiang Southeast Metalsheet Co., Ltd.
Zhejiang Xingristeel Holding Group Co., Ltd.
Zhicheng Steel Material Co., Ltd
Zhongshan Nomura Steel Product Co., Ltd.
Zibo Fengyang Color Coated Steel Co., Ltd.
THE PEOPLE'S REPUBLIC OF CHINA: Xanthan Gum, A-570-985 | 7/1/23-6/30/24
CP Kelco (Shandong) Biological Company Limited
Deosen Biochemical (Ordos) Ltd.
Deosen Biochemical Ltd.
Inner Mongolia Jianlong Biochemical Co., Ltd.
Jianlong Biotechnology Co., Ltd.
Jilin Meihua Amino Acid Co., Ltd.
Langfang Meihua Biotechnology Co., Ltd.
Meihua Group International Trading (Hong Kong) Limited
Neimenggu Fufeng Biotechnologies Co., Ltd. (aka Inner Mongolia Fufeng Biotechnologies Co., Ltd.)
Ningxia Top Hydrocolloids Co., Ltd.
Shandong Fufeng Fermentation Co., Ltd.
Shanghai Smart Chemicals Co. Ltd.
Xinjiang Fufeng Biotechnologies Co., Ltd.
Xinjiang Meihua Amino Acid Co., Ltd.
CVD Proceedings
INDIA: Polyethylene Terephthalate (Pet) Film, C-533-825 | 1/1/23-12/31/23
Chiripal Poly Films Limited
Cosmo First Ltd.
Ester Industries Limited
Garware Hi-Tech Films Limited
Garware Polyester Ltd.
Jindal Poly Films Limited; Jindal Poly Films Ltd. (India)
JPFL Films Private Ltd.
Polyplex Corporation Ltd.
SRF Limited; SRF Limited of India; SRF Limited Packaging Films
Vacmet India Limited
ITALY: Certain Pasta, C-475-819 | 1/1/23-12/31/23
Antiche Tradizioni Di Gragnano S.R.L.
DeMatteis Agroalimentare S.p.A.
Gruppo Milo SpA
Pastificio Attilio Mastromauro-Granoro Srl
Pastificio Sgambaro
REPUBLIC OF KOREA: Corrosion-Resistant Steel Products, C-580-879 | 1/1/23-12/31/23
Dongkuk Coated Metal Co., Ltd.
Hyundai Steel
Hyundai Steel Co., Ltd.
Hyundai Steel Company
KG Dongbu Steel Co., Ltd.
KG Steel Corporation
NS BlueScope Steel Vietnam Ltd.
POSCO
POSCO Coated & Color Steel Co., Ltd.
POSCO International
POSCO Steeleon Co., Ltd.
SeAH Coated Metal
SeAH Steel Corporation
REPUBLIC OF TÜRKIYE: Steel Concrete Reinforcing Bar, C-489-830 ¹¹ | 1/1/23-12/31/23
Habas Sinai ve Tibbi Gazlar Istihsal Endustrisi A.S.; HABAS; Habas Elektrik Uretim A.S.; Habas Endustri Tesisleri A.S.; Mertas Turizm Nakliyat ve Ticaret A.S.; Pegagaz A.S; Cebitas Demir Celik Endustrisi A.S.; Osman Sonmez Ins. Taah; Habas Petrol Urtmleri Sanayi ve Ticaret A.S.
SOCIALIST REPUBLIC OF VIETNAM: Passenger Vehicle and Light Truck Tires, C-552-829 | 1/1/23-12/31/23
Kumho Tire (Vietnam) Co., Ltd.
Kumho Tire Co., Inc.
Sailun (Vietnam) Co., Ltd.
SOCIALIST OF REPUBLIC OF VIETNAM: Certain Steel Nails, C-552-819 | 1/1/23-12/31/23
Region Industries Co., Ltd.
THE PEOPLE'S REPUBLIC OF CHINA: Certain Freight Rail Couplers and Parts Thereof, C-570-146 | 3/3/23-12/31/23
Alstom Transportation
CH Robinson Worldwide
Chongqing Tongyao Intelligent Equipment Co., Ltd.
Chongqing Tongyao Transportation Equipment Co., Ltd.
Creative Instore Solutions Pty Ltd.
Dellner Coupler System Technology (Wuhan) Co., Ltd.
National Steel Car
Ningbo Rete International Co., Ltd.
Renold China Chain NSC (Renold Hangzhou Co. Ltd)
Rotex Global LLC
RTC Industries Inc.
Strategic Global Sourcing Ltd.
Suzhou Huran Manufacturing Co, Ltd.
THE PEOPLE'S REPUBLIC OF CHINA: Collated Steel Staples, C-570-113 | 1/1/23-12/31/23
Adinath Corporation Limited
A-Jax International Co., Ltd
Alfa Marine (Shanghai) Co., Ltd.
An Ji Bei Lun Jia Ju You Xian Gong
Anhui Z&A Import And Export Co., Ltd.
Beijing Yazhao Technology Co., Ltd.
Cas International Co., Ltd.
Changzhou Kya Fasteners Co., Ltd.
China Staple Enterprise (Tianjin)
China Wind International Ltd.
China Zhejiang International
Cre8 Direct (Ningbo) Co., Ltd.
Eastrong International
E-Teklon Co., Ltd.
Fastnail Products Limited
Foshan Hosontool Development Hardware Co., Ltd.
Fourever E-Commerce Company Limited
Fourever International Limited
Future Horizon Printing
Geofantex Geosynthetics Co., Ltd.
Global Link (Shanghai) Co., Ltd.
Gpa Hong Kong Limited
Guangdong Willing Technology Corporation
Guangzhou Liya Leather Co., Ltd.
Guangzhou Nova Co., Ltd.
Hainan Golden Shell Co., Ltd.
Hangzhou G-Wire Technology Co., Ltd.
Hebei Reenly Trade Co., Ltd.
Hefei Great Auto Equipment Co., Ltd.
Hk Prosper Industry Limited
Hk Sino-Harvest Packing Co., Ltd.
Huanghua Rc Business Co., Ltd.
Hubei Xing Ning Corporation Limited
J.Ennis (Ningbo Free Trade Zone) Co.
Jabil Electronics (Weihai) Co
Jet Power International, Ltd.
Jiaxing Brothers Hardware Co., Ltd.
Jinweilong Fasteners (Hk) Co., Limited
Ky Pneumatic Nail Co., Limited
Larme Industrial (Shanghai) Company
Linyi Flyingarrow Imp. & Exp. Ltd.
Mingguang Ruifeng Hardware Products Co., Ltd.
Nanjing Nuochun Hardware Co., Ltd.
Ningbo Assisting Trading Co., Ltd.
Ningbo Cando Imp&Exp Co., Ltd.
Ningbo Feihong Stationery Ltd Corp
Ningbo G&W Imp.&Exp. Co., Ltd.
Ningbo Home-Dollar Imp&Exp Corp.
Ningbo Hoz Fasteners Co., Limited.
Ningbo Jieyou Trading Co., Ltd.
Ningbo Mas-Houseware Imp. Exp. Co., Ltd.
Ningbo Most-Textile Trading Co., Ltd.
Ningbo Pacrim Manufacturing Co., Ltd.
Ningbo Paper Melody Industrial Co., Ltd.
Ningbo Superior Trading Co., Ltd.
Ningbo Tongya International Co., Ltd.
Ningbo Yuanyu Stationery & Gifts Co., Ltd.
Ocean King International Industries Limited
Oli-Fast Fasteners (Tianjin)
Prym Consumer Ningbo Trading Limited
Qingdao Forent Industry Co., Ltd.
Rayson Electrical Mfg. Ltd.
Rise Time Industrial Ltd.
Shanghai Jade Shuttle Hardware Tools Co., Ltd.
Shanghai Yueda Nails Co., Ltd.
Shaoxing Bohui Import Export Co., Ltd.
Shaoxing Huasheng Stationery Manufacturing Co., Ltd.
Shaoxing Mingxing Nail Co., Ltd.
Shaoxing Shangyu Longke Umbrella
Shaoxing Shunxing Metal Producting Co., Ltd.
Shuyang Sundy Art & Craft Co., Ltd.
Suntec Industries Co., Ltd.
Suzhou Everich I/E Co., Ltd.
Techtronic Cordless Gp
Thakral Corporation (Hk) Limited
Tianjin Angetai Import and Export Co., Ltd.
Tianjin Hweschun Fasteners Manufacturing, Co., Ltd.
Tianjin Jin Xin Sheng Long Metal Products Co., Ltd.
Tianjin Jinyifeng Hardware Co., Ltd.
Unicorn (Tianjin)Fasteners Co., Ltd
Wire Products Manufacturing Co., Ltd.
Xiamen Wanguoxing Trade Co., Ltd.
YF Technology Corporation
Yiwu Chengming Import And Export Co., Ltd.
Yueqing Yuena Electric Science And Technology
Zhejiang Best Nail Industrial Co., Ltd.
Zhejiang Linyi Import And Export Co., Ltd.
Zhejiang Yunde Sanitary Ware Co., Ltd.
THE PEOPLE'S REPUBLIC OF CHINA: Corrosion-Resistant Steel Products, C-570-027 | 1/1/23-12/31/23
Angang Cold Rolling Sheet (Putian) Plant
Angang Steel Co., Ltd.—Anshan Plant
ANSC-TKS Galvanizing Co., Ltd.
Anshan Iron & Steel (Group) Corp.
Asia Minmetals Machinery Co., Ltd.
Aoguan Thin Steel Technology (Zhejiang) Co., Ltd.
Baoshan Iron & Steel Co., Ltd.
Baosteel Group Corp.
Baosteel Group Shanghai Meishan Co., Ltd.
Baosteel Group Xinjiang Bayi Iron & Steel Co., Ltd.
Baosteel Huangshi Coated and Galvanized Sheet Co., Ltd.
Baotou Iron and Steel (Group) Co., Ltd.
Bazhou Wanlu Metal Production Co., Ltd.
Beijing Hongyuan Steel Structure Engineering Co., Ltd.
Benlog International Steel Co., Ltd.
Benxi Iron & Steel (Group) Special Steel Co., Ltd.
BlueScope (Suzhou) Co., Ltd.
Cangzhou Hengtong Steel Pipe Co., Ltd.
Changshu Everbright Material Technology Co., Ltd.
Changshu Huaye Steel Strip Co., Ltd.
Changshu Jiacheng Coated Steel Co., Ltd.
Changzhou Dingang Metal Material Co., Ltd.
Chengde Iron & Steel Group Co., Ltd.
China Lanjiang Steel Group Co., Ltd.
Chongqing Iron & Steel (Group) Co., Ltd.
Cibao New Type Sheet Metal Jiangsu Co., Ltd.
Dalian POSCO Steel Co., Ltd.
Dalian Pujin Steel Plate Co., Ltd.
Dongguan Yusheng Steel Co., Ltd.
Fengyuan Steel Structure Co., Ltd.
Foshan Jinxi Jinlan Cold Rolled Sheets Co., Ltd.
Fujian Casey Steel Group Co., Ltd.
Fujian Kaixi Iron & Steel Co., Ltd.
Fujian Longyan Hangxing Steel Co., Ltd.
Fujian Sansteel (Group) Co., Ltd.
Guangdong Hanjiang Steel Plate Co., Ltd.
Guangdong Huaguan Steel Co., Ltd.
Guangdong Huamei Co., Ltd.
Guangdong Huayun Aluminum Industry Co., Ltd.
Guangdong Qingyuan Dongshang Steel Co., Ltd.
Guangzhou JFE Steel Sheet Co., Ltd.
Handan Iron & Steel Group Co., Ltd.
Handan ZhuoLi Group Co., Ltd.
Handan Zongheng Iron & Steel Group Co., Ltd.
Hangzhou Yongfeng Steel Construction Co., Ltd.
Hebei Iron & Steel Group Co., Ltd.; Tangshan Iron & Steel Group Co., Ltd.; DUFERCO S.A.
Hebei Puyang Iron & Steel Co., Ltd.
Hebei Sunpo Metal Products Co., Ltd.
Hebei Tianjie Pipeline Equipment Co., Ltd.
Hebei Xinda Iron & Steel Co., Ltd.
Hebei Yanzhao Lantian Steel Sheet Group Co., Ltd.
Hebei Zhihui Import & Export Co., Ltd.
Hebei Zhonggang Steel & Iron Co., Ltd.
Henan Jianhui Machinery Co., Ltd.
Hengshui Jinghua Steel Pipe Co., Ltd.
Hualu Steel Co., Ltd.
Huangshi Shanli Technology Development Co., Ltd.
Huaye Iron & Steel Group
Hunan Valin Iron and Steel Group Co., Ltd.
Hunan Valin Lianyuan Iron & Steel Co., Ltd.
JFE Steel Corp. (Guangzhou)
Jiangsu Cold Rolled (Sutor Group)
Jiangsu Dajiang Metal Material Co., Ltd.
Jiangsu Gangzheng Steel Sheet Science and Technology Co., Ltd.
Jiangsu Guoqiang Zinc-Plating Ind Co., Ltd.
Jiangsu Jiangnan Cold-Rolled Co., Ltd.
Jiangsu Jiangnan Industrial Group Co., Ltd.
Jiangsu Jijing Metal Technology Co., Ltd.
Jiangsu Shagang Group Co., Ltd.
Jiangyin Huaxi Steel Co., Ltd.
Jiangyin New Taifu Metal Product Co., Ltd.
Jiangyin Zongcheng Steel Co., Ltd.
Jieyang Nangang Strip Steel Industrial Co., Ltd.
JinLan Group
Jiuquan Iron & Steel (Group) Co., Ltd.
Kunming Iron & Steel (Group) Co., Ltd.
Langfang Fuxin Steel Plate Co., Ltd.
Lianyuan Iron & Steel Group Co., Ltd.
Liaoning Jiayi Metals & Minerals Co., Ltd.
Lin Qing Hongji (Group) Co., Ltd.
Longyan Zhuolong Iron & Steel Co., Ltd.
Maanshan Iron & Steel Co., Ltd.
Ningbo Iron & Steel Co., Ltd.
Ningbo Zhongmeng Iron & Steel Co., Ltd.
Pangang Group Chengdu Steel & Vanadium Co., Ltd.
Panhua Group Co., Ltd.
Panzhihua Iron & Steel (Group) Co.
Qingdao Baosen Steel Co., Ltd.
Qingdao Dtom Metal Products Co., Ltd.
Qingdao Weier Plastic Machinery Co., Ltd.
Richang Galvanized Plates Ltd.
Sansteel MinGuang Co., Ltd
Shandong Fada Precision Sheet Co., Ltd.
Shandong Hong Shengda Steel Plate Co., Ltd.
Shandong Hua Stainless Steel Co., Ltd.
Shandong Iron & Steel Group
Shandong Kerui Steel Plate Co., Ltd.
Shandong Lu Steel (Group) Co., Ltd.
Shandong Yuanda Sheet Industry Tech Co., Ltd.
Shandong Xiangtong Rubber Group Co., Ltd.
Shandong Zhongguan Steel Plate Co., Ltd.
Shanghai AN LAN Steel Co., Ltd.
Shandong Xinqinglu Steel Plate Co., Ltd.
Shandong Xinri Coated Steel Sheet Co., Ltd.
Shougang Grou
Shougang Jingtang United Iron & Steel Co., Ltd.
Shunde Posco Coated Steel
Sino-Coalition (Ningbo) Steel Production Co., Ltd.
Sinosteel Corporation
South Polar Lights Steel (Shanghai) Co., Ltd.
Suzhou City Dongshan Sheet Metal Liability Co., Ltd.
Tianjin Hengxing Steel Industry Co., Ltd.
Tianjin Jiecheng Galvanized Rolling Plate Co., Ltd.
Tianjin Metallurgical No. 1 Steel Group Co., Ltd.
Tianjin Nanchen Steels Co., Ltd.
Tianjin Rolling-one Steel Co., Ltd. (TROSCO)
Tianjin Xinyu Color Plate Co., Ltd.
Tonghua Iron & Steel Co., Ltd.
Topsky Steel Industry Co., Ltd.
Union Steel (China)
Wuhan Iron & Steel Group Echeng Iron & Steel Co., Ltd.
Valin ArcelorMittal Automotive Steel Co., Ltd.
Venus Holdings Shanghai Co., Ltd.
Wenzhou Yucang Steel Industry Co., Ltd.
WISCO—Wuhan Iron & Steel (Group) Corp.
Wuxi New Dazhong Steel Co., Ltd.
Wuxi Tongxin Automatic Equipment Co., Ltd.
Wuxi Xindazhong Steel Sheet Co., Ltd.
Wuxi Zhongcai New Material Co., Ltd.
Wu'an Wen'an Iron & Steel Co., Ltd.
Xiehe Group (Zhejiang Concord Group)
Yichang Three Gorges Quantong Coated and Galvanized Plate Co., Ltd.
Yieh Phui (China) Technomaterial Co., Ltd.
Yingkou Panpan Chaoshuo High-Tech Steel Co., Ltd.
Zhangjiagang New Gangxing Technology Co., Ltd.
Zhejiang Hengda Industrial Group Co., Ltd.
Zhejiang Huada Steel Industry Co., Ltd.
Zhejiang Shunda Weiye Materials Co., Ltd.
Zhejiang Southeast Metalsheet Co., Ltd.
Zhejiang Xingristeel Holding Group Co., Ltd.
Zhicheng Steel Material Co., Ltd.
Zhongshan Nomura Steel Product Co., Ltd.
Zibo Fengyang Color Coated Steel Co., Ltd.

Suspension Agreements

None.

⁷ Stainless steel sheet and strip in coils produced and exported by Inchon Iron & Steel Co., Ltd., were excluded from the order effective June 8, 1999. See Notice of Final Determination of Sales at Less Than Fair Value: Stainless Steel Sheet and Strip in Coils from the Republic of Korea, 64 FR 30664, 30688 (June 8, 1999). On June 28, 2002, Commerce determined that INI Steel Company is the successor-in-interest to Inchon Iron & Steel Co., Ltd. See Stainless Steel Sheet and Strip in Coils from the Republic of Korea: Notice of Final Results of Changed Circumstances Antidumping Duty Administrative Review, 67 FR 43583 (June 28, 2002). On July 3, 2006, Commerce determined that Hyundai Steel Company is the successor-in-interest to INI Steel Company, formerly Inchon Iron and Steel Co., Ltd. See Notice of Final Results of Changed Circumstances Antidumping Duty Administrative Review: Stainless Steel Sheet and Strip in Coils from the Republic of Korea, 71 FR 37906 (July 3, 2006). Therefore, entries of merchandise produced and exported by Hyundai Steel Company are excluded from the AD order. This exclusion is not applicable to merchandise exported to the United States by Hyundai Steel Company in any other producer/exporter combination or by third parties that sourced subject merchandise from the excluded producer/exporter combination. Accordingly, this initiation covers merchandise: (1) produced by a third party and exported by Hyundai Steel Company; (2) produced by Hyundai Steel Company and exported by a third party; or (3) exported by a third party that sourced subject merchandise from the excluded producer/exporter combination.

⁸ On December 1, 2011, Commerce revoked the order with respect to Pohang Iron & Steel Co., Ltd. (POSCO). See Notice of Implementation of Determination Under Section 129 of the Uruguay Round Agreements Act and Revocation of the Antidumping Duty Order on Stainless Steel Plate in Coils from the Republic of Korea; and Partial Revocation of the Antidumping Duty Order on Stainless Steel Sheet and Strip in Coils from the Republic of Korea, 76 FR 74771, 74772 (December 1, 2011). Therefore, entries of merchandise produced and exported by POSCO are excluded from the antidumping duty order and this exclusion is not applicable to merchandise exported to the United States by POSCO in any other producer/exporter combination or by third parties that sourced subject merchandise from the excluded producer/exporter combination. Accordingly, this initiation covers merchandise: (1) produced by a third party and exported by POSCO; (2) produced by POSCO and exported by a third party; or (3) exported by a third party that sourced subject merchandise from the excluded producer/exporter combination.

⁹ In their request for review, dated July 31, 2024, the domestic interested parties, i.e., North American Stainless and Outokumpu Stainless USA, LLC, listed this company as Chang Mien Industrial Co., Ltd. Commerce confirmed with the domestic interested parties that the name should be listed as Chang Mien Industries Co., Ltd. (Chang Mien). See Memorandum, “Clarification of Request for Review,” dated August 6, 2024. Stainless steel sheet and strip in coils produced and exported by Chang Mien were excluded from the AD order on stainless steel sheet and strip in coils from Taiwan, effective July 27, 1999. See Notice of Antidumping Duty Order; Stainless Steel Sheet and Strip in Coils from United Kingdom, Taiwan, and South Korea, 64 FR 40555 (July 27, 1999). Therefore, entries of merchandise produced and exported by Chang Mien are excluded from the antidumping duty order and this exclusion is not applicable to merchandise exported to the United States by Chang Mien in any other producer/exporter combination or by third parties that sourced subject merchandise from the excluded producer/exporter combination. Accordingly, this initiation covers merchandise: (1) produced by a third party and exported by Chang Mien; (2) produced by Chang Mien and exported by a third party; or (3) exported by a third party that sourced subject merchandise from the excluded producer/exporter combination.

¹⁰ Stainless steel sheet and strip in coils produced and exported by Tung Mung Development Co. Ltd. (Tung Mung) were excluded from the AD order on stainless steel sheet and strip in coils from Taiwan, effective October 16, 2002. See Notice of Amended Final Determination in Accordance with Court Decision of the Antidumping Duty Investigation of Stainless Steel Sheet and Strip in Coils from Taiwan, 69 FR 67311, 67312 (November 17, 2004). Therefore, entries of merchandise produced and exported by Tung Mung are excluded from the antidumping duty order and this exclusion is not applicable to merchandise exported to the United States by Tung Mung in any other producer/exporter combination or by third parties that sourced subject merchandise from the excluded producer/exporter combination. Accordingly, this initiation covers merchandise: (1) produced by a third party and exported by Tung Mung; (2) produced by Tung Mung and exported by a third party; or (3) exported by a third party that sourced subject merchandise from the excluded producer/exporter combination.

¹¹ The Federal Register notice announcing the opportunity to request this review inadvertently referenced the period of review as 1/1/2022-12/31/2022. See Antidumping or Countervailing Duty Order, Finding, or Suspended Investigation; Opportunity to Request Administrative Review and Join Annual Inquiry Service List, 89 FR 54437 (July 1, 2024). We have corrected this apparent error in this initiation notice.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether ADs have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹² available at https://www.govinfo.gov/content/pkg/FR-2013-07-17/pdf/2013-17045.pdf, prior to submitting factual information in this segment. Note that Commerce has amended certain of its requirements pertaining to the service of documents in 19 CFR 351.303(f).¹³

¹² See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹³ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.¹⁴ Commerce intends to reject factual submissions in any proceeding segments if the submitting party does not comply with applicable certification requirements.

¹⁴ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁵ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹⁵ See 19 CFR 351.302.

These initiations and this notice are in accordance with section 751(a) of the Act (19 U.S.C. 1675(a)) and 19 CFR 351.221(c)(1)(i).

Dated: August 8, 2024.
Scot Fullerton,
Acting Deputy Assistant Secretary for Antidumping and Countervailing Duty Operations.

[FR Doc. 2024-18103 Filed 8-13-24; 8:45 am]

BILLING CODE 3510-DS-P